ENVIRONMENTAL PROTECTION AGENCY

40 CFR Part 81

[EPA-HQ-OAR-2008-0476; FRL-9619-4]

EPA Responses to State and Tribal 2008 Ozone Designation Recommendations; Extension of Public Comment Period

AGENCY: Environmental Protection Agency (EPA).

ACTION: Proposed rule; extension of public comment period.

SUMMARY: The EPA is announcing the extension of the public comment period for the EPA's responses to state and tribal ozone designation recommendations for the 2008 Ozone National Ambient Air Quality Standards. The EPA sent the responses directly to the states and tribes on or about December 9, 2011. On December 20, 2011 (76 FR 78872, FRL-9608-6), the EPA published a notice in the Federal Register that the EPA had posted the responses on its Internet Web site and the EPA invited public comment. In the notice, the EPA stated that public comments must be received on or before January 19, 2012. The EPA has received several requests from stakeholders for additional time to prepare their comments. Some of the requesters noted that the original 30-day comment period fell across two federal holidays. Taking that into consideration, the EPA is extending the comment period until February 3, 2012. The EPA intends to make final designation determinations for the 2008 ozone standards in spring 2012.

DATES: Comments must be received on or before February 3, 2012. Please refer to SUPPLEMENTARY INFORMATION for additional information on the comment period.

ADDRESSES: Submit your comments, identified by Docket ID No. EPA-OAR-HQ-2008-0476, by one of the following methods:

• http://www.regulations.gov. Follow the online instructions for submitting comments.

• Email: a-and-r-docket@epa.gov. Attention Docket ID No. EPA-HQ-OAR-2008-0476.

• Fax: (202) 566-9744. Attention Docket ID No. EPA-HQ-OAR-2008-0476.

• Mail: Air Docket, Attention Docket ID No. EPA-HQ-OAR-2008-0476, Environmental Protection Agency, Mail Code: 6102T, 1200 Pennsylvania Ave. NW., Washington, DC 20460.

• Hand Delivery: EPA Docket Center, 1301 Constitution Avenue NW., Room 3334, Washington, DC. Such deliveries are only accepted during the Docket's normal hours of operation, and special arrangements should be made for deliveries of boxed information.

Instructions: Direct your comments to Docket ID No. EPA-HQ-OAR-2008-0476. The EPA's policy is that all comments received will be included in the public docket without change and may be made available online at www.regulations.gov, including any personal information provided, unless the comment includes information claimed to be confidential business information or other information whose disclosure is restricted by statute. Do not submit information that you consider to be confidential business information or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA is unable to read your comment and cannot contact you for clarification due to technical difficulties, the EPA may not be able to consider your comment. Electronic files should avoid the use of special characters, any form of encryption, and be free of any defects or viruses. For additional information about the EPA's public docket, visit the EPA Docket Center homepage at http://www.epa.gov/epahome/dockets.htm. For additional instructions on submitting comments, go to the SUPPLEMENTARY INFORMATION section of this document.

Docket: All documents in the docket are listed in the www.regulations.gov index. Although listed in the index, some information is not publicly available, i.e., confidential business information or other information whose disclosure is restricted by statute. Certain other material, such as copyrighted material, is not placed on the Internet and will be publicly available only in hard copy form. Publicly available docket materials are available either electronically in www.regulations.gov or in hard copy at the EPA Docket Center, EPA West, Room 3334, 1301 Constitution Avenue NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For general questions concerning this action, please contact Carla Oldham, U.S. EPA, Office of Air Quality Planning and Standards, Air Quality Planning Division, C539-04, Research Triangle Park, NC 27711, telephone (919) 541-3347, email at oldham.carla@epa.gov. For questions regarding the EPA Region 1, please contact Richard Burkhart, U.S. EPA, telephone (617) 918-1664, email at burkhart.richard@epa.gov. For questions regarding the EPA Region 2, please contact Bob Kelly, U.S. EPA, telephone (212) 637-3709, email at kelly.bob@epa.gov. For questions regarding the EPA Region 3, please contact Maria Pino, U.S. EPA, telephone (215) 814-2181, email at pino.maria@epa.gov. For questions regarding the EPA Region 4, please contact Jane Spann, U.S. EPA, telephone (404) 562-9029, email at spann.jane@epa.gov. For questions regarding the EPA Region 5, please contact Edward Doty, U.S. EPA, telephone (312) 886-6057, email at doty.edward@epa.gov. For questions regarding the EPA Region 6, please contact Guy Donaldson, U.S. EPA, telephone (214) 665-7242, email at donaldson.guy@epa.gov. For questions regarding the EPA Region 7, please contact Lachala Kemp, U.S. EPA, telephone (913) 551-7214, email at kemp.lachala@epa.gov. For questions regarding the EPA Region 8, please contact Scott Jackson, U.S. EPA, telephone (303) 312-6107, email at jackson.scott@epa.gov. For questions regarding the EPA Region 9, please contact John J. Kelly, U.S. EPA, telephone (415) 947-4151, email at kelly.johnj@epa.gov. For questions regarding EPA Region 10, please contact Claudia Vaupel, U.S. EPA, telephone (206) 553-6121, email at vaupel.claudia@epa.gov.

SUPPLEMENTARY INFORMATION:

I. General Information

A. What should I consider as I prepare my comments for the EPA?

1. Submitting Confidential Business Information. Do not submit this information to the EPA through www.regulations.gov or email. Clearly mark the part or all of the information that you claim to be confidential business information. For confidential business information in a disk or CD ROM that you mail to the EPA, mark the outside of the disk or CD ROM as confidential business information and then identify electronically within the disk or CD ROM the specific information that is claimed as confidential business information. In addition to one complete version of the comment that includes information claimed as confidential business information, a copy of the comment that does not contain the information claimed as confidential business information must be submitted for inclusion in the public docket. Information so marked will not be disclosed except in accordance with procedures set forth in 40 CFR part 2. Send or deliver information identified as confidential business information only to the following address: Roberto Morales, U.S. EPA, Office of Air Quality Planning and Standards, Mail Code C404-02, Research Triangle Park, NC 27711, telephone (919) 541-0880, email at morales.roberto@epa.gov, Attention Docket ID No. EPA-HQ-OAR-2008-0476.

2. Tips for Preparing Your Comments. When submitting comments, remember to:

• Identify the rulemaking by docket number and other identifying information (subject heading, Federal Register date and page number).

• Follow directions.

• Explain why you agree or disagree; suggest alternatives and substitute language for your requested changes.

B. Where can I get a copy of this document and other related information?

The EPA has established a docket for the ozone designations rulemaking for the 2008 ozone standards at EPA-HQ-OAR-2008-0476. In addition, the EPA has established a Web site for the ozone designations rulemaking at www.epa.gov/ozonedesignations. The Web site includes the state and tribal designation recommendations, information supporting the EPA's preliminary designation decisions, as well as the rulemaking actions and other related information that the public may find useful.

Dated: January 12, 2012.
Mary E. Henigin,
Acting Director, Office of Air Quality Planning and Standards.

[FR Doc. 2012-957 Filed 1-18-12; 8:45 am]

BILLING CODE 6560-50-P